DEPARTMENT OF TRANSPORTATION

Coast Guard

[USCG 2002-13126]

Collection of Information Under Review by Office of Management and Budget (OMB): OMB Control Number 2115-0141

AGENCY: Coast Guard, DOT.

ACTION: Request for comments.

SUMMARY: In compliance with the Paperwork Reduction Act of 1995, the Coast Guard intends to seek the approval of OMB for the renewal of one Information Collection Request (ICR). The ICR concerns Lifesaving, Electrical, and Engineering Equipment, Construction, and Materials. Before submitting the ICR to OMB, the Coast Guard is inviting comments on it.

DATES: Comments must reach the Coast Guard on or before October 21, 2002.

ADDRESSES: To make sure that your comments and related material do not enter the docket [USCG 2002-13126] more than once, please submit them by only one of the following means:

(1) By mail to the Docket Management Facility, U.S. Department of Transportation (DOT), room PL-401, 400 Seventh Street SW., Washington, DC 20590-0001. Caution: Because of recent delays in the delivery of mail, your comments may reach the Facility more quickly if you choose one of the other means described below.

(2) By delivery to room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web Site for the Docket Management System at http://dms.dot.gov.

The Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICR are available through this docket on the Internet at http://dms.dot.gov, and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; or Dorothy Beard, Chief, Documentary Services Division, U.S. Department of Transportation, 202-366-5149, for questions on the docket.

Request for Comments

The Coast Guard encourages interested persons to submit comments. Persons submitting comments should include their names and addresses, identify this document [USCG 2002-13126], and give the reasons for the comments. Please submit all comments and attachments in an unbound format no larger than 8½ by 11 inches, suitable for copying and electronic filing. Persons wanting acknowledgment of receipt of comments should enclose stamped self-addressed postcards or envelopes.

Information Collection Request

Title: 46 CFR Subchapter Q: Lifesaving, Electrical, and Engineering Equipment, Construction, and Materials.

OMB Control Number: 2115-0141.

Summary: The Coast Guard needs to collect this information so it can ensure compliance with rules governing specific types of safety equipment and material installed on commercial vessels and pleasure craft. Manufacturers must submit drawings, specifications, and laboratory test reports to the Coast Guard before it grants any approval.

Need: 46 U.S.C. 2103, 3306, 3703, and 4302 authorize the Coast Guard to establish rules for safety equipment and material. 46 CFR parts 159 to 164 contain these rules. This information will help the Coast Guard determine whether manufacturers are in compliance with these rules. When the Coast Guard approves any safety equipment or material for use on a commercial vessel or pleasure craft, it issues the manufacturer a Certificate of Approval.

Respondents: Manufacturers of safety equipment and materials.

Frequency: On occasion.

Burden: The estimated burden is 16,880 hours a year.

Dated: August 13, 2002.
N. S. Heiner,
Acting Director of Information and Technology.

[FR Doc. 02-21133 Filed 8-19-02; 8:45 am]

BILLING CODE 4910-15-P